Title 3—

The President

Proclamation 7555 of May 3, 2002

Small Business Week, 2002

By the President of the United States of America

A Proclamation

The strength of our economy is built on the creativity and entrepreneurship of our people. Those who own and operate our Nation's 25 million small businesses make a vital contribution to our prosperity through their ongoing work to create new technologies, products, and services. These hardworking men and women and their employees define the American spirit through their innovation, dedication, and determination.

The tragedy of September 11, 2001, greatly affected our Nation and our economy; but our economy is recovering and remains fundamentally sound. In the aftermath of the terrorist attacks, the business community rose to this challenge by volunteering their time and services to help with the relief and rebuilding efforts in New York City and Washington, D.C. This compassionate spirit demonstrated America's true character.

To help businesses recover from September 11, my Administration has made more than $520 million in disaster loans available to business owners nationwide. I also remain committed to a domestic policy that stimulates economic growth, boosts consumer purchasing power, and creates a level playing field. Our efforts to lower taxes, enact reasonable regulations, and reduce tariffs and other barriers to free trade will increase the competitive position of our small businesses. To further encourage economic growth, I recently signed into law the Job Creation and Worker Assistance Act of 2002. The Act helps to create more jobs across our country by providing tax incentives for companies to expand and create jobs by investing in facilities and equipment. This action will lead to more opportunities in manufacturing, high-tech sectors, and our small businesses. I am also committed to achieve a permanent repeal of the death tax and the permanent extension of tax relief to help ensure the strength and survival of small businesses.

America's small business owners represent more than 99 percent of all employers and their businesses employ more than half of the private work force. These entrepreneurs who create more than 66 percent of the new jobs nationwide and generate more than 50 percent of the Nation's gross domestic product growth are critical to our country's prosperity and the well-being of our communities. We salute these employers by celebrating Small Business Week and recognizing their contributions to all Americans.

NOW, THEREFORE, I, GEORGE W. BUSH, President of the United States of America, by virtue of the authority vested in me by the Constitution and laws of the United States, do hereby proclaim May 5 through May 11, 2002, as Small Business Week. I call on all Americans to observe this week with appropriate ceremonies, activities, and programs that celebrate the achievements of small business owners and encourage and foster the development of new enterprises.

IN WITNESS WHEREOF, I have hereunto set my hand this third day of May, in the year of our Lord two thousand two, and of the Independence of the United States of America the two hundred and twenty-sixth.

B

[FR Doc. 02-11780

Filed 5-8-02; 8:45 am]

Billing code 3195-01-P